DEPARTMENT OF EDUCATION

Office of Special Education and Rehabilitative Services, Overview Information, Vocational Rehabilitation Services, Projects for American Indians With Disabilities; Notice Inviting Applications for New Awards for Fiscal Year (FY) 2006

Correction

In notice document E5-7721 beginning on page 76044 in the issue of Thursday, December 22, 2005 make the following corrections:

1. On page 76044, in the second column, under Deadline for Transmittal of Applications:,“April 21, 2005” should read, “April 21, 2006”.

2. On page 76045, in the third column, under 3. Sumission Dates and Times:, in the third line, “April 21, 2005” should read, “April 21, 2006”.

[FR Doc. Z5-7721 Filed 12-28-05; 8:45 am]

BILLING CODE 1505-01-D